FEDERAL MARITIME COMMISSION

Ocean Transportation Intermediary License; Revocation

The Federal Maritime Commission hereby gives notice that the following Ocean Transportation Intermediary licenses have been revoked pursuant to section 19 of the Shipping Act of 1984 (46 U.S.C. chapter 409) and the regulations of the Commission pertaining to the licensing of Ocean Transportation Intermediaries, 46 CFR part 515, effective on the corresponding date shown below:

License Number: 018449N.

Name: ABC Depot, Inc.

Address: 5690 Bandini Blvd., Bell, CA 90201.

Date Revoked: May 26, 2011.

Reason: Failed to maintain a valid bond.

License Number: 018848N.

Name: Wings Logistics U.S.A., Corp.

Address: 147-35 Farmers Blvd., Jamaica, NY 11434

Date Revoked: May 20, 2011.

Reason: Failed to maintain a valid bond.

License Number: 019232N.

Name: Universal Container Trade, Inc.

Address: 16228 McGill Road, La Mirada, CA 90638.

Date Revoked: May 28, 2011.

Reason: Failed to maintain a valid bond.

License Number: 020311F.

Name: Watership, Ltd. dba Transgroup International.

Address: 650 Atlanta South Parkway, Suite 100, Atlanta, GA 30349.

Date Revoked: May 29, 2011.

Reason: Failed to maintain a valid bond.

License Number: 020314F.

Name: Idaho Specialized Transportation, Inc. dba Transgroup International.

Address: 1287 Boeing Street, Boise, ID 83705.

Date Revoked: May 29, 2011.

Reason: Failed to maintain a valid bond.

License Number: 020538F.

Name: Ord Ico, LLC dba Transgroup International.

Address: 1400 Mittel Blvd., Suite A, Wood Dale, IL 60191.

Date Revoked: May 29, 2011.

Reason: Failed to maintain a valid bond.

License Number: 020544F.

Name: Trans Ico, LLC dba Transgroup International.

Address: 280 Wilson Avenue, Newark, NJ 07105.

Date Revoked: May 29, 2011.

Reason: Failed to maintain a valid bond.

License Number: 020312F.

Name: TBD Services, Inc. dba Transgroup International.

Address: 940 Aldrin Drive, Suite 110, Eagan, MN 55121.

Date Revoked: May 29, 2011.

Reason: Failed to maintain a valid bond.

License Number: 020540F.

Name: Jet Air Delivery, Inc. dba Transgroup International.

Address: 4980 Amelia Earhart Drive, Salt Lake City, UT 84116.

Date Revoked: May 29, 2011.

Reason: Failed to maintain a valid bond.

License Number: 020543F.

Name: Trans Lax LLC dba Transgroup International.

Address: 15901 Hawthorne Blvd., Suite 440, Los Angeles, CA 90260.

Date Revoked: May 29, 2011.

Reason: Failed to maintain a valid bond.

License Number: 021838F.

Name: Trans-Mia, LLC dba Transgroup International.

Address: 10300 NW., 19th Street, Bldg. 105, Miami, FL 33172.

Date Revoked: May 29, 2011.

Reason: Failed to maintain a valid bond.

License Number: 021920F.

Name: Trans Bos, LLC dba Transgroup International.

Address: 140 Eastern Avenue, Chelsea, MA 02150.

Date Revoked: May 29, 2011.

Reason: Failed to maintain a valid bond.

License Number: 021973F.

Name: Cargo Connections NC, LLC dba Transgroup International.

Address: 4119-G Rose Lake Drive, Charlotte, NC 28217.

Date Revoked: May 29, 2011.

Reason: Failed to maintain a valid bond.

License Number: 022540N.

Name: Quality One International Shipping Express, Corp.

Address: 3913 Dyre Avenue, Bronx, NY 10466.

Date Revoked: May 24, 2011.

Reason: Failed to maintain a valid bond.

License Number: 022745N.

Name: Leverex International Inc.

Address: 15 Corporate Place South, Suite 407, Piscataway, NJ 08854.

Date Revoked: May 24, 2011.

Reason: Failed to maintain a valid bond.

Sandra L. Kusumoto,
Director, Bureau of Certification and Licensing.

[FR Doc. 2011-16544 Filed 6-30-11; 8:45 am]

BILLING CODE 6730-01-P